DEPARTMENT OF COMMERCE

National Oceanic and Atmospheric Administration

[RTID 0648-XE801]

Caribbean Fishery Management Council; Public Meeting

AGENCY: National Marine Fisheries Service (NMFS), National Oceanic and Atmospheric Administration (NOAA), Commerce.

ACTION: Notice of public hybrid meeting (in-person/virtual).

SUMMARY: The Caribbean Fishery Management Council (CFMC) will hold the 186th public hybrid meeting to address the items contained in the tentative agenda included in the SUPPLEMENTARY INFORMATION.

DATES: The 186th CFMC public hybrid meeting will be held on April 22, 2025, from 9 a.m. to 4:45 p.m., AST. A closed session will be held on April 22, 2025, from 5 p.m. to 5:30 p.m., AST, to discuss personnel matters. The Council will reconvene on April 23, 2025, from 9 a.m. to 4 p.m., AST.

ADDRESSES: The meetings will be held at The Buccaneer Hotel, 5007 Estate, Christiansted, St. Croix, U.S.V.I., 00824.

You may join the 186th CFMC public hybrid meeting via Zoom, from a computer, tablet or smartphone by entering the following address:

Join Zoom Meeting: https://us02web.zoom.us/j/84328130219?pwd=65MKg0lyTe4h1Wv1fAKetKTPEdFAcx.1.

Meeting ID: 843 2813 0219.

Passcode: 856050.

One tap mobile:

+17879667727,,84328130219#,,,,*856050# Puerto Rico

+19399450244,,84328130219#,,,,*856050# Puerto Rico

Dial by your location:

• +1 787 966 7727 Puerto Rico

• +1 939 945 0244 Puerto Rico

• +1 787 945 1488 Puerto Rico

• +1 689 278 1000 US

• +1 719 359 4580 US

• +1 929 205 6099 US (New York)

• +1 253 205 0468 US

• +1 253 215 8782 US (Tacoma)

• +1 301 715 8592 US (Washington DC)

• +1 305 224 1968 US

• +1 309 205 3325 US

• +1 312 626 6799 US (Chicago)

• +1 346 248 7799 US (Houston)

• +1 360 209 5623 US

• +1 386 347 5053 US

• +1 507 473 4847 US

• +1 564 217 2000 US

• +1 646 931 3860 US

• +1 669 444 9171 US

• +1 669 900 6833 US (San Jose)

Find your local number: https://us02web.zoom.us/u/kbyXG7i4Ql.

In case there are problems, and we cannot reconnect via Zoom, the meeting will continue using GoToMeeting.

Please join my meeting from your computer, tablet or smartphone.

https://meet.goto.com/971749317

You can also dial in using your phone.

Access Code: 971-749-317

United States: +1 (408) 650-3123

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

April 22, 2025

9 a.m.-9:30 a.m.

—Call to Order

—Roll Call

—Adoption of Agenda

—Consideration of 185th Council Meeting Verbatim Transcription

—Executive Director's Report

9:30 a.m.-10:15 a.m.

—Update NOAA Fisheries/Council Island Based Fishery Management Plans (FMPs) Actions and Amendments—María López-Mercer, NOAA Fisheries/SERO

10:15 a.m.-10:30 a.m.

—Coffee Break

10:30 a.m.-11 a.m.

—Amendment 4 to the Puerto Rico FMP: Reclassification of the Rainbow Runner as a Pelagic Fish—Final Action; María López-Mercer, NOAA Fisheries/SERO

11 a.m.-11:30 a.m.

—Scientific and Statistical Committee Report—Vance Vicente, Chair

—Ecosystem-Based Fisheries Management Technical Advisory Panel Report—Sennai Habtes, Chair

11:30 a.m.-12 p.m.

—Sea Grant Program Update—Ruperto Chaparro, Director, Sea Grant Program UPR

12 p.m.-1:30 p.m.

—Lunch Break

1:30 p.m.-2 p.m.

—Progress of the eReporting Application After 4 Years Implemented in Puerto Rico—Daniel Matos Caraballo, Puerto Rico Fisheries Research Laboratory, DNER

2 p.m.-3 p.m.

—Southeast Fishery Science Center Updates—Kevin McCarthy, Caribbean Fisheries Branch, NOAA Fisheries/SEFSC

3 p.m.-3:15 p.m.

—Coffee Break

3:15 p.m.-4:15 p.m.

—Federal Permits Discussion and Example—J. Stephen, NOAA Fisheries/SERO

4:15 p.m.-4:30 p.m.

—Response to St. Thomas Fishers Association Questions Regarding Grammanik Bank Management—Sarah Stephenson, NOAA Fisheries/SERO

4:30 p.m.-4:45 p.m.

—Public Comment Period (5-minute presentations)

4:45 p.m.

—Adjourn for the day

5 p.m.-5:30 p.m.

—Closed Session

April 23, 2025

9 a.m.-9:30 a.m.

—IRA Update—Martha Prada, CFMC IRA Coordinator

9:30 a.m.-10 a.m.

—Protected Resources Division Update—J. Lee, NOAA Fisheries/SERO

10 a.m.-10:30 a.m.

—Recap Social Science in the U.S. Caribbean: a 23-year perspective—Brent Stoffle, NOAA Fisheries/SEFSC

10:30 a.m.-10:45 a.m.

—Coffee Break

10:45 a.m.-11:30 a.m.

—Outreach and Education Advisory Panel Report—Jannette Ramos, Chair

—CFMC Social Networks—Cristina Olán

—CFMC Liaison Officers Reports (10 minutes each)

—St. Thomas/St. John, U.S.V.I.—Nicole Greaux

—Puerto Rico—Wilson Santiago

—St. Croix, U.S.V.I.

11:30 a.m.-12 p.m.

—Sargassum Season Update—Julio Morell/Loraine Martel, CARICOOS, Inc.

12 p.m.-1:30 p.m.

—Lunch Break

1:30 p.m.-2:15 p.m.

—District Advisory Panel Reports (15 minutes each)

—St. Thomas, U.S.V.I.—Julian Magras, Chair

—St. Croix, U.S.V.I.—Gerson Martinez, Chair

—Puerto Rico—Nelson Crespo, Chair

2:15 p.m.-2:55 p.m.

—Enforcement Reports (10 minutes each)

—Puerto Rico DNER

—U.S.V.I. DPNR

—U.S. Coast Guard

—NOAA Fisheries Office of Law Enforcement

2:55 p.m.-3:15 p.m.

—Ecosystem Risk Assessment—Leigh Fletcher, Bioimpact Inc.

3:15 p.m.-3:30 p.m.

—Advisory Bodies Membership

3:30 p.m.-3:45 p.m.

—Other Business

3:45 p.m.-4 p.m.

—Public Comment Period (5-minute presentations)

—Next Meetings

4 p.m.

—Adjourn

Note (1): Other than starting time and dates of the meetings, the established times for addressing items on the agenda may be adjusted as necessary to accommodate the timely completion of discussion relevant to the agenda items. To further accommodate discussion and completion of all items on the agenda, the meeting may be extended from or completed before the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on April 22, 2025, at 9 a.m. AST, and will end on April 23, at 4 p.m., AST. Other than the start time on the first day of the meeting, interested parties should be aware that discussions may start earlier or later than indicated in the agenda, at the discretion of the Chair.

Special Accommodations

For any additional information on this public hybrid meeting, please contact Diana Martino, Caribbean Fishery Management Council, 270 Muñoz Rivera Avenue, Suite 401, San Juan, Puerto Rico, 00918-1903, telephone: (787) 226-8849.

Authority: 16 U.S.C. 1801 et seq.

Dated: March 21, 2025.
Rey Israel Marquez,
Acting Deputy Director, Office of Sustainable Fisheries, National Marine Fisheries Service.

[FR Doc. 2025-05219 Filed 3-26-25; 8:45 am]

BILLING CODE 3510-22-P